DEPARTMENT OF TRANSPORTATION

Federal Motor Carrier Safety Administration

[Docket No. FMCSA-2009-0112]

Agency Information Collection (IC) Activities; Extension of a Currently Approved Collection: Training Certification for Entry-Level Commercial Motor Vehicle Operators

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval, and invites public comment. The FMCSA requests approval to extend an ICR entitled, “Training Certification for Entry-Level Commercial Motor Vehicle Operators.” There is no change from the burden estimate approved by OMB on March 11, 2008.

DATES: We must receive your comments on or before July 27, 2009.

ADDRESSES: You may submit comments bearing the Federal Docket Management System (FDMS) Docket Number FMCSA-2009-0112 by any of the following methods:

• Federal eRulemaking Portal: Go to http://www.regulations.gov. Follow the on-line instructions for submitting comments.

• Mail: Docket Management Facility, U.S. Department of Transportation, 1200 New Jersey Avenue, SE., West Building Ground Floor, Room W12-140, Washington, DC 20590-0001.

• Hand Delivery: West Building Ground Floor, Room W12-140, 1200 New Jersey Avenue, SE., Washington, DC 20590-0001 between 9 a.m. and 5 p.m., e.t. Monday through Friday, except Federal holidays.

• Fax: 1-202-493-2251

Each submission must include the Agency name and the docket number for this Notice. Note that DOT posts all comments received without change to http://www.regulations.gov, including any personal information included in a comment. Please see the Privacy Act heading below.

Docket: For access to the docket to read background documents or comments, go to http://www.regulations.gov at any time or to Room W12-140 on the ground level of the West Building, 1200 New Jersey Avenue, SE., Washington, DC, 20590-0001 between 9 a.m. and 5 p.m., e.t. Monday through Friday, except Federal holidays. The FDMS is available 24 hours each day, 365 days each year. If you want acknowledgement that we received your comments, please include a self-addressed, stamped envelope or postcard or print the acknowledgement page that appears after submitting them on-line.

Privacy Act: Anyone may search the electronic form of all comments received into any of our dockets by the name of the individual submitting the comment (or of the person signing the comment, if submitted on behalf of an association, business, labor union, etc.). You may review DOT's complete Privacy Act Statement in the Federal Register on April 11, 2000 (65 FR 19476). This information is also available at http://docketsinfo.dot.gov.

FOR FURTHER INFORMATION CONTACT: Mr. Thomas Yager, Chief, Driver and Carrier Operations Division, Federal Motor Carrier Safety Administration, 1200 New Jersey Avenue, SE., Washington, DC, 20590-0001. Telephone: 202-366-4325. E-mail: MCPSD@dot.gov.

SUPPLEMENTARY INFORMATION: Background: The Commercial Motor Vehicle Safety Act of 1986 (CMVSA) (49 U.S.C. 31301 et seq.) established national minimum testing and licensing standards for operators of large trucks and buses. Congress sought to ensure that drivers of large trucks and buses possessed the knowledge and skills necessary to operate these vehicles. The CMVSA established the “Commercial Drivers License” (CDL) program and directed the Federal Highway Administration (FHWA), FMCSA's predecessor agency, to establish minimum Federal standards that States must meet when licensing CMV drivers. The CMVSA applies to most operators of CMVs in interstate or intrastate commerce, including employees of Federal, State and local governments.

Section 4007(a)(2) of the Intermodal Surface Transportation Efficiency Act of 1991 (ISTEA) (Pub. L. 102-240, December 18, 1991) directed the FHWA to “commence a rulemaking proceeding on the need to require training of all entry-level drivers of CMVs.” On June 21, 1993, the FHWA published in the Federal Register an advance notice of proposed rulemaking entitled, “Commercial Motor Vehicles: Training for All Entry Level Drivers” (58 FR 33874). The Agency also began a study of the effectiveness of the training of entry-level drivers by the private sector. The results of the study were published in 1997 under the title “Adequacy of Commercial Motor Vehicle Driver Training,” and are available in FMCSA Docket 1997-2199. The study found that the heavy truck, motor coach, and school bus segments of the industry were not providing adequate entry-level training.

On August 15, 2003, FMCSA published a notice of proposed rulemaking (NPRM) entitled, “Minimum Training Requirements for Entry-Level Commercial Motor Vehicle Operators” (68 FR 48863). The Agency proposed mandatory training for operators of CMVs in four areas: Driver qualifications, hours-of-service of drivers, driver wellness and whistle-blower protection. Training in these topics was not required at that time, and the Agency believed that knowledge of these areas was crucial to CMV safety. On May 21, 2004, FMCSA published a final rule with the same title as the NPRM (69 FR 29384). The Agency mandated training for all CDL operators in the four subject areas, effective July 20, 2004, despite litigation over the final rule in the U.S. Court of Appeals for the D.C. Circuit. While the court ordered a remand so the Agency could review the matter, the court did not vacate the rule. Consequently, the final rule is currently in effect (Advocates for Highway and Auto Safety v. Federal Motor Carrier Safety Administration, 429 F. 3d1136 (D.C.Cir. 2005).

Title: Training Certification for Entry-Level Commercial Motor Vehicle Operators

OMB Control Number: 2126-0028.

Type of Request: Extension of an IC.

Respondents: Entry-level CDL drivers.

Estimated Number of Respondents: 45,611.

Estimated Time per Response: 10 minutes.

Expiration Date: September 30, 2009.

Frequency of Response: On occasion.

Estimated Total Annual Burden: 7,602 hours. FMCSA estimates that an entry-level driver requires approximately 10 minutes to complete the tasks necessary to comply with the regulation. Those tasks are: Photocopying the training certificate, giving the photocopy to the motor carrier employer, and placing the original of the certificate in a personal file. Therefore, the annual burden for all entry-level drivers is 7,602 hours [45,611 respondents × 10 minutes/60 minutes to complete a response = 7,601.8 hours (rounded to 7,602 hours)].

Definitions: “Commercial Motor Vehicle (CMV)”: A motor vehicle operated in commerce and having a gross vehicle weight rating of 26,001 pounds or more, regardless of actual weight, or designed to transport 16 or more passengers, or used to transport placardable and dangerous hazardous materials (49 CFR 383.5). The term “CMV” is limited to this definition in this document; the term “CDL driver” is used because the operators of these CMVs are required to have a valid commercial driver's license (CDL). This rule currently applies solely to “entry-level” CDL drivers, i.e., those who have less than one year of experience operating a CMV (49 CFR 380.502(b)).

Public Comments Invited: You are asked to comment on any aspect of this information collection, including: (1) Whether the proposed collection is necessary for the FMCSA's performance of functions; (2) the accuracy of the estimated burden; (3) ways for the FMCSA to enhance the quality, usefulness, and clarity of the collected information; and (4) ways that the burden could be minimized without reducing the quality of the collected information. The Agency will summarize or include your comments in the request for OMB's clearance of this information collection.

Issued on: May 20, 2009.
David T. Anewalt,
Acting Associate Administrator, Research and Information Technology.

[FR Doc. E9-12326 Filed 5-27-09; 8:45 am]

BILLING CODE 4910-EX-P